DEPARTMENT OF JUSTICE

Notice of Lodging of Proposed Consent Decree Under the Clean Air Act

On April, 19, 2019, the Department of Justice lodged a proposed Consent Decree with the United States District Court for the District of Colorado in the lawsuit entitled United States and State of Colorado v. HighPoint Operating Corporation, Civil Action No. 1:19-cv-01151.

The lawsuit seeks injunctive relief and civil penalties for violations of the Clean Air Act, the Colorado Air Pollution Prevention and Control Act (“Colorado Act”), Colorado's federally approved State Implementation Plan (“Colorado SIP”), and Colorado Air Quality Control Commission Regulation Number 7 (“Regulation No. 7”) at tank batteries (referred to in the consent decree as “Tank Systems”) that are, or were until recently, owned and operated by HighPoint Operating Corporation (“HighPoint”) in a portion of the Denver-Julesburg Basin in Colorado (known as the “8-Hour Ozone Control Area”) designated as non-attainment with the National Ambient Air Quality Standards for ground-level ozone. The violations relate to alleged failures to adequately design, operate, and maintain vapor control systems at the Tank Systems, resulting in emissions of volatile organic compounds (“VOC”) and other pollutants to the atmosphere.

The proposed Consent Decree covers HighPoint's Tank Systems in the 8-Hour Ozone Control Area equipped with vapor control systems pursuant to Regulation No. 7 to achieve required system-wide emission reductions (50 tank batteries). Under the terms of the proposed Consent Decree HighPoint will ensure vapor control systems adequately capture and control potential VOC emissions from storage tanks by performing engineering evaluations of the vapor control systems and either making any necessary modifications to ensure adequate capture and control or installing an automated system that will monitor Tank System pressure and automatically control oil and gas flow rates into the Tank Systems and shut in equipment (including wells) to avoid excess emissions. HighPoint will also conduct monthly optical gas-imaging infrared camera (IR camera) inspections of all Tank Systems and implement a directed inspection and preventative maintenance program. The Decree will result in substantial reductions in VOC emissions from HighPoint Tank Systems throughout the ozone nonattainment area. The EPA and Colorado Department of Health and Environment (“CDPHE”) estimate the Decree's injunctive relief requirements to modify vapor control system design, improve operations and maintenance practices, and increase monitoring will reduce emissions from HighPoint's tank systems by approximately 350 tons per year (tpy). Additionally, HighPoint will complete a mitigation project it estimates will reduce emissions of VOC by approximately another 50 tpy.

HighPoint will pay a civil penalty of $330,000, of which $275,000 will go to the United States, and $55,000 to Colorado. Colorado and HighPoint have agreed that HighPoint will perform a state-only supplemental environmental project (to be designated) that will cost up to $220,000. Entering into and fully complying with the proposed Consent Decree will release HighPoint from past civil liability at the Tank Systems and associated vapor control systems for violations of the Colorado SIP and Regulation No. 7 relating to VOC emissions from condensate storage tanks.

The publication of this notice opens a period for public comment on the Consent Decree. Comments should be addressed to the Assistant Attorney General, Environment and Natural Resources Division, and should refer to United States and State of Colorado v. HighPoint Operating Corporation, D.J. Ref. No. 90-5-2-1-11484. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $34.75 (25 cents per page reproduction cost) payable to the United States Treasury for a copy of the Consent Decree without appendices. For a paper copy without the appendices, the cost is $21.25.

Robert Brook,
Assistant Section Chief, Environmental Enforcement Section, Environment and Natural Resources Division.

[FR Doc. 2019-08329 Filed 4-24-19; 8:45 am]

BILLING CODE 4410-15-P